DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) number and alternative trade adjustment assistance (ATAA) by (TA-W) number issued during the periods of September 2005.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.)(increased imports) and (a)(2)(B)(II.B) (No shift in production to a foreign country) have not been met.

TA-W 57,598; Tyco Electronics, GIC&E Division, Waterbury, CT

TA-W 57,673; Venture Industries, Hopkinsville, KY

TA-W 57,695; Gerome Manufacturing, Newberg, OR

TA-W 57,706; Martin Crating Co., Inc., McMinnville, TN

TA-W 57,718; Flextronics International USA, Norwood, MA

TA-W 57,720; Northwest Hardwood, Weyerhaeuser Business, Appearance Wood Prod., Little Rock, AR

TA-W 57,722; Janesville Sackner Group, Janesville Products Division, Janesville, WI

TA-W 57,771; Prince Mfg. Co. (The), Bowmanstown, PA

TA-W 57,782; McLaughlin Co. (The), MRC Industrial Group, Inc., Petoskey, MI

TA-W 57,794; Cognis Corporation, Cincinnati, OH

TA-W 57,796; TCS Manufacturing, Inc., Jamestown, NY

TA-W 57,804; Kellwood Company, Intimate Apparel Group, Summit, MS

TA-W 57,804A; Kellwood Company, Intimate Apparel Group-Fernwood MS, Summit, MS

TA-W 57,804B; Kellwood Company, Intimate Apparel Group-Summit MS, Summit, MS

TA-W 57,808; Nomaco Div. of Noel, Inc., Tarboro, NC

TA-W 57,870; International Paper Co., Printing & Converting Div. Bastrop, LA

TA-W 57,994; Johnnie Overstreet, Gen. Contractor—Jefferson Parish, Marrero, LA

The investigation revealed that criteria (a)(2)(A)(I.B.)(Sales or production, or both, did not decline) and (a)(2)(B)(II.B) (No shift in production to a foreign country) have not been met.

TA-W 57,422A; Benedict Manufacturing Company, Big Rapids, MI

TA-W 57,700; Joy Technologies, Inc., Joy Mining Machinery, Mt. Vernon, IL

TA-W 57,709; AMI Doduco, Technitrol, Inc., Reidsville, NC

TA-W 57,725; Hill-Rom Company, Inc., Information Technology Department, Batesville, IN

TA-W 57,736; Owensboro Manufacturing, LLC, Owensboro, KY

TA-W 57,743; Sulzer-Sturm Rapid Response Center, Barboursville, WV

TA-W 57,843; Sierra Pine, Medite Division, Medford, OR

TA-W 57,897; Nypro, Inc., d/b/a Nypro Carolina, Graham, NC

The investigation revealed that criterion (a)(2)(A)(I.A) and (a)(2)(B)(II.A) (no employment decline) has not been met.

57591A; United Wire Hanger Corporation, Wire Garment Hangar Line, Hasbrouk Heights, New Jersey

TA-W 57,744; Nissan Motor Manufacturing, Finance Div., Smyrna, TN

TA-W 57,750; Pennsylvania House La-Z-Boy, Inc., Lewisburg, PA

TA-W 57,757; Meryl Diamond Ltd., New York, NY

TA-W 57,763; Coats North America, Greer, SC

TA-W 57,767; General Electric, Consumer and Industrial Components, Conover, NC

58,027; Carhartt, Inc., Providence, KY

The workers firm does not produce an article as required for certification under Section 222 of the Trade Act of 1974.

TA-W 57,367; Tellabs Repair and Return Department, Petuluma, CA

TA-W 57,687; IBM Global Services, Phoenix, AZ

TA-W 57,730; Garan Manufacturing Corp., Starkville, MS

TA-W 57,730A; Garan Manufacturing Eupora Mississippi, Eupora, MS

TA-W 57,740; Baron Drawn Steel Corp., Toledo, OH

TA-W 57,753; Gas Transmission Service Company, Div. of the Transcanada Corp., Rosalia, WA

TA-W 57,753A; Gas Transmission Service, Company Div. of the Transcanada Corp., Wallula , WA

TA-W 57,790; Science Applications International, Piscataway, NJ

TA-W 57,793; GE Consumer Finance General Electric Co., Partnership Marketing, Schaumburg, IL

TA-W 57,838; Texstyle, Inc., Manchester, KY

TA-W 57,922; Concentra Network Services, Concentra, Inc., Franklin, TN

TA-W 57,948; Amkor Technology, Chandler, AZ

TA-W 57,985; Carroll Leather, El Paso, TX

TA-W-58,019; Aradian Corporation, San Diego, CA

The investigation revealed that criteria (a)(2)(A)(I.C.) (Increased imports and (a)(2)(B)(II.C) (has shifted production to a foreign country) have not been met.

None

The investigation revealed that criteria (2) has not been met. The workers firm (or subdivision) is not a supplier or downstream producer to trade-affected companies.

None

Affirmative Determinations for Worker Adjustment Assistance

The following certifications have been issued; the date following the company name and location of each determination references the impact date for all workers of such determination.

The following certifications have been issued. The requirements of (a)(2)(A) (increased imports) of Section 222 have been met.

TA-W 57,742; Agilent Technologies, Inc., Electronic Measurements Group, Santa Rosa, CA: May 6, 2005.

TA-W 57,742A; Agilent Technologies, Inc., Electronics Measurements Group, Everett, WA: August 12, 2004

TA-W 57,742AA; Agilent Technologies, Inc., Electronic Measurements Group, Human Resource, Austin, TX: August 12, 2004.

TA-W 57,742B; Agilent Technologies, Inc., Electronic Measurements Group, Chandler, AZ: August 12, 2004.

TA-W 57,742BB; Agilent Technologies, Inc., Electronic Measurements Group, Bonham' TX: August 12, 2004.

TA-W 57,742C; Agilent Technologies, Inc., Electronic Measurements Group, Moreno Valley, CA: August 12, 2004.

TA-W 57,742CC; Agilent Technologies, Inc., Electronic Measurements Group, New Braunfels, TX: August 12, 2004.

TA-W 57,742D; Agilent Technologies, Inc., Electronic Measurements Group, Roseville, CA: August 12, 2004.

TA-W 57,742DD; Agilent Technologies, Inc., Electronic Measurements Group, Richardson, TX: August 12, 2004.

TA-W 57,742E; Agilent Technologies, Inc., Electronic Measurements Group, Santa Clara, CA: August 12, 2004.

TA-W 57,742EE; Agilent Technologies, Inc., Electronic Measurements Group, San Antonio, TX: August 12, 2004.

TA-W 57,742F; Agilent Technologies, Inc., Electronic Measurements Group, Westlake Village, CA: August 12, 2004.

TA-W 57,742FF; Agilent Technologies, Inc., Electronic Measurements Group, South Burlington, VT: August 12, 2004.

TA-W 57,742G; Agilent Technologies, Inc., Electronic Measurements Group, Colorado, WA: August12, 2004.

TA-W 57,742H; Agilent Technologies, Inc., Electronic Measurements Group, Englewood, CO: August 12, 2004.

TA-W 57,742HH; Agilent Technologies, Inc., Electronic Measurements Group, Liberty Lake, WA: August 12, 2004.

TA-W 57,742I; Agilent Technologies, Inc., Electronic Measurements Group, Highlands Ranch, CO: August 12, 2004.

TA-W 57,742J; Agilent Technologies, Inc., Electronic Measurements Group, Loveland, CO: August 12, 2004.

TA-W 57,742K; Agilent Technologies, Inc., Electronic Measurements Group, Melbourne, FL: August 12, 2004.

TA-W 57,742L; Agilent Technologies, Inc., Electronic Measurements Group, Alpharetta, GA: August 12, 2004.

TA-W 57,742M; Agilent Technologies, Inc., Electronic Measurements Group, Powder Springs, GA: August 12, 2004.

TA-W 57,742N; Agilent Technologies, Inc., Electronic Measurements Group, Woodbine, GA: August 12, 2004.

TA-W 57,742O; Agilent Technologies, Inc., Electronic Measurements Group, Crystal Lake, IL: August 12, 2004.

TA-W 57,742P; Agilent Technologies, Inc., Electronic Measurements Group, Steger, IL: August 12, 2004.

TA-W 57,742Q; Agilent Technologies, Inc., Electronic Measurements Group, Andover, MA: August 12, 2004.

TA-W 57,742R; Agilent Technologies, Inc., Electronic Measurements Group, Northampton, MA: August 12, 2004.

TA-W 57,742S; Agilent Technologies, Inc., Electronic Measurements Group, Budd Lake, NJ: August 12, 2004.

TA-W 57,742T; Agilent Technologies, Inc., Electronic Measurements Group, Durham, NC: August 12, 2004.

TA-W 57,742U; Agilent Technologies, Inc., Electronic Measurements Group, Mentor:, OH: August 12, 2004.

TA-W 57,742V; Agilent Technologies, Inc., Electronic Measurements Group, Tigard, OR: August 12, 2004.

TA-W 57,742W; Agilent Technologies, Inc., Electronic Measurements Group, Henryville, PA: August 12, 2004.

TA-W 57,742X; Agilent Technologies, Inc., Electronic Measurements Group, Bluffton, SC: August 12, 2004.

TA-W 57,742Y; Agilent Technologies, Inc., Electronic Measurements Group, Putnam, TN: August 12, 2004.

TA-W 57,742Z; Agilent Technologies, Inc., Electronic Measurements Group, Infrastructure Support, Austin, TX: August 12, 2004.

TA-W 57,928; Wabash Alloys, Wabash, IN, September 9, 2004.

TA-W 57,946; Acme Gear CO: Englewood NJ: September 13, 2004.

TA-W 57,989; Wasley Products, Inc. Plainville, CT: September 16, 2004.

TA-W 57,591; United Wire Hanger Corporation, Wire Garment Hangar Line, Hasbrouk Heights, New Jersey: June 28, 2004.

TA-W 57,601; Manner Textile Processing, Haledon, NJ: June 29, 2004.

TA-W 57,635; St. John Knits, Alhambra, CA: July 1, 2004.

TA-W 57,654; Oriental Accent, Inc., Farmers Branch, TX: August 1, 2004.

TA-W 57,680; Joan Fabrics Corporation, Newton Finishing Plant, Newton NC: July 17, 2005.

TA-W 57,680A; Joan Fabrics Corporation Hickory Div., Pilot Weaving, Weaving, Corp. Marketing Hickory NC: July 17, 2005.

TA-W 57,688; O'Sullivan Industries, Inc., Ransdstad, Lamar, MO: June 11, 2005.

TA-W 57,688A; O'Sullivan Industries, Inc., O'Sullivan Industries Holdings, Inc., South Boston, VA: June 11, 2005.

TA-W 57,691; Falcon Products, Metal Chair Div., Morristown, TN: August 8, 2004.

TA-W 57,693; Ironees Company (The), Philadelphia, PA: July 25, 2004.

TA-W 57,701; Old Pro Cover Company, Holly Hill, SC: August 8, 2004.

TA-W 57,723; Carlisle Engineered Products, Inc., Advance Placement, Career Concept, Staffing Serv., Lake City, PA: August 05, 2004.

TA-W 57,737; Caribou Ltd., Hicksville, NY: July 29, 2004.

TA-W 57,738; Vander-Bend Mfg., LLC, Sunnyvale, CA: August 1, 2004.

TA-W 57,747; Mountaintop Manufacturing, Action Personnel, One Source, Procure, Mountaintop, PA: August 15, 2004.

TA-W 57,754; Delphi Corp., Automotive Holdings (Delphi Energy Chassis) Kettering, OH: August 23, 2005.

TA-W 57,756; FiberMark, Warren Glen Location, Milford, NJ: August 16, 2004.

TA-W 57,756A; FiberMark, Hughesville Location, Milford, NJ: August 16, 2004.

TA-W 57,760; Clarion Technologies, South Haven, MI: August 11, 2004.

TA-W 57,761; Stimson Lumber Company, Bonner, MT: August 16, 2004.

TA-W 57,766; Southern Graphic Systems, Div. of Alcoa Business, Louisville, KY: August 17, 2004.

TA-W 57,774; Preco Electronics, Inc., Adecco Staffing, Boise, ID: May 21, 2005.

TA-W 57,775; Pleasant Hill Veneer Corp., Pleasant Hill, MO: July 27, 2004.

TA-W 57,788; AmbiTech, Inc., Chatsworth, CA: August 3, 2004.

TA-W 57,789; Amveco Magnetics, Inc., Houston TX: September 10, 2004.

TA-W 57,801; Johnson Controls, Inc., Automotive Group-Interiors, Holland, MI: August 11, 2004.

TA-W 57,802; Sara Lee Corporation, Winston-Salem NC: July 29, 2004.

TA-W 57,805; Edward Fields, Inc., College Point, NY: July 28, 2004.

TA-W 57,809; R.J. Reynolds Tobacco Company, Lucky Strikes Storage Facility, Richmond, VA: August 09, 2004.

TA-W 57,828; Hold-E-Zee, Ltd., Meadville, PA: July 28, 2004.

TA-W 57,831; DSM Nutritional Products, Inc., Belvidere NJ: August 24, 2004.

TA-W 57,857; Delta Mills, Inc., Beattie Plant, Wallace, SC: August 29, 2004.

TA-W 57,857A; Delta Mills, Inc., Delta Plant No. 2—Div. Woodside Industries, Inc., Wallace SC: August 29, 2004.

TA-W 57,857B; Delta Mills, Inc., Delta Plant No. 3—Div. Woodside Industries, Inc., Wallace, SC: August 29, 2004.

TA-W 57,857C; Delta Mills, Inc., Pamplico—Div. Woodside Industries, Inc., Wallace, SC: August 29, 2004.

TA-W 57,862; Novacel, Inc., Newton, MA: August 17, 2004.

TA-W 57,875; Levolor Kirsch Window Fashions, Spherion, Freeport, IL: December 5, 2004.

TA-W 57,881; Champion Laboratories, Inc., Albion, IL: August 27, 2004.

TA-W 57,920; Phoenix Metallurgical, Inc., Hopedale, MA: September 8, 2004.

TA-W 57,967; LXD, Inc., Cleveland, OH: September 8, 2004.

TA-W 57,976; Honeywell International, Inc., Consumer Products, Manpower, Adecco, Kelly, etc Lynn Haven, FL: September 13, 2004.

The following certifications have been issued. The requirements of (a)(2)(B) (shift in production) of Section 222 have been met.

TA-W 57,742A; Agilent Technologies, Inc. Electronic Measurements Group, Everett, WA: August 12, 2004.

TA-W 57,833; A.O. Smith Corporation, Upper Sandusky, OH: August 15, 2004.

TA-W 57,467; Texas Instruments, Final Test and Production, Tucson, AZ: June 24, 2004.

TA-W 57,691A; Falcon Products, Wood Frame Upholstered Furniture Div. Morristown, TN: August 8, 2004.

TA-W 57,696; ICU Medical Formerly Hospira, Salt Lake City, UT: August 5, 2004.

TA-W 57,710; Braden Mfg., LLC, Tulsa, OK: August 05, 2004.

TA-W 57,727; Old Mother Hubbard Inc., Ayer, MA: August 11, 2004.

TA-W 57,727A; Old Mother Hubbard Inc., Chelmsford, MA: August 11, 2004.

TA-W 57,745A; USR Optonix MCI Optonix Division, Express Personnel, Cedar Knolls, NJ: August 15, 2004.

TA-W 57,746; Joan Fabrics, Mastercraft Fabrics, Spindale, NC: August 05, 2004.

TA-W 57,746A; Joan Fabrics, Mastercraft Fabrics, Spindale, NC: August 05, 2004.

TA-W 57,746B; Joan Fabrics, Mastercraft Fabrics, Spindale, NC: November 11, 2005.

TA-W 57,770; Elementis Pigments Corporation, East St. Louis, IL: August 11, 2004.

TA-W 57,778; Kemtah Group, Inc., At The Hewlett-Packard Co., Corvallis, OR: August 17, 2004.

TA-W 57,780; Cintas Rockcastle Mfg., Mt. Vernon, KY: August 5, 2004.

TA-W 57,791; Accellent, Corry, PA: August 05, 2004.

TA-W 57,798; Power-One, TriNet, Carlsbad, CA: August 10, 2004.

TA-W 57,803; Viasystems, Consumer Group, Mishawaka, IN: August 18, 2004.

TA-W 57,806; Harper Pet Products, Inc., Harper Leather Goods, Inc., Bedford Park, IL: August 17, 2004.

TA-W 57,810; Stone Apparel, Stone International, LLC, Columbia, SC: August 19, 2004.

TA-W 57,820; Paper Converting Machine Company, Green Bay, WI: September 12, 2005.

TA-W 57,829; Daimler-Chrysler Indianapolis Foundry, Indianapolis, IN: August 22, 2004.

TA-W 57,830; Mallory AC Capacitor, LLC, Glasgow, KY: August 23, 2004.

TA-W 57,836; Ruskin Company, Lau Industries Div., Clayton, OH: August 04, 2004.

TA-W 57,846; UBE Automotive North America, Mason, OH: August 22, 2004.

TA-W 57,853; Indiana Tube, Fort Smith Division, Fort Smith, AR: August 26, 2005.

TA-W 57,868; Northland, A Scott Fetzer Co., Watertown, NY: September 26, 2005.

TA-W 57,869; CarboMedics, Inc., Austin, TX: August 18, 2004.

TA-W 57,872; Ametek/Chatillon and Sons, Inc., Test and Calibration Instruments, Kew Gardens, NY: August 28, 2004.

TA-W 57,873; Conso International Corp., Union, SC: August 29, 2005.

TA-W 57,891; Teradyne, Inc., (TCS Assembly Operations), San Jose, CA: August 26, 2004.

TA-W 57,892; Cardinal Health, El Paso, TX: August 23, 2004.

TA-W 57,926; Avery Dennison Corporation, Statesville, NC: September 9, 2004.

TA-W 57,933; Solectron USA Division, West Palm Beach, FL: September 2, 2004.

TA-W 57,955; FCI USA, Inc., CDC Americas Div., Manpower, Inc., Mt. Union, PA: September 14, 2004.

TA-W 57,959; Hewlett-Packard, Inkjet Supplies Business, Boise, ID: September 15, 2004.

TA-W 57,965; Volex, Inc., Accuforce, Manpower and Foothills, Conover, NC: September 26, 2005.

TA-W 57,966; Rels Acquisition Company, Inc., (DBA) Rels MFG, Inc. (Parent Co. IBCC Group, Inc.), Rockford, MN: September 15, 2005.

The following certification has been issued. The requirement of supplier to a trade certified firm has been met.

TA-W 57,745; USR Optonix, Phosphor Division, Hackettstown, NJ: August 15, 2004.

TA-W 57,759; Unifi, Inc., Central Distribution Center, Mayodan, NC: August 16, 2004.

TA-W 57,776; Brockway Pressed Metals, Inc., Brockway, PA: August 17, 2004.

TA-W 57,825; Vectron International, Inc., Dover Electronics, Norwalk, CT: August 15, 2004.

The following certification has been issued. The requirement of downstream producer to a trade certified firm has been met.

None

Negative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

In the following cases, it has been determined that the requirements of Section 246(a)(3)(ii) have not been met for the reasons specified.

The Department as determined that criterion (2) of Section 246 has not been met. Workers at the firm possess skills that are easily transferable.

TA-W 57,635; St. John Knits, Alhambra, CA

TA-W 57,710; Braden Mfg., LLC, Tulsa, OK

TA-W 57,747; Mountaintop Manufacturing, Including Onsite Personnel from Action Personnel, One Source, Procure, Mountaintop, PA

TA-W 57,766; Southern Graphic Systems, Div. of Alcoa Business, Louisville, KY

TA-W 57,825; Vectron International, Inc., Dover Electronics, Norwalk, CT

TA-W 57,828; Hold-E-Zee, Ltd., Meadville, PA

TA-W 57,829; Daimler-Chrysler Indianapolis Foundry, Indianapolis, IN

TA-W 57,836; Ruskin Company, Lau Industries Div., Clayton, OH

The Department as determined that criterion (1) of Section 246 has not been met. Workers at the firm are 50 years of age or older.

TA-W 57,727; Old Mother Hubbard Inc., Ayer, MA

TA-W 57,778: Kemtah Group, Inc., At The Hewlett-Packard Co., Corvallis, OR

TA-W 57,727A; Old Mother Hubbard Inc., Chelmsford, MA

Since the workers are denied eligibility to apply for TAA, the workers cannot be certified eligible for ATAA.

TA-W 57,422A; Benedict Manufacturing Company, Big Rapids, MI

TA-W 57,591A; United Wire Hanger Corporation, Wire Garment Hangar Line, Hasbrouk Heights, New Jersey

TA-W 57,744; Nissan Motor Manufacturing, Finance Div., Smyrna, TN

TA-W 57,750; Pennsylvania House, La-Z-Boy, Inc., Lewisburg, PA

TA-W-57,757; Meryl Diamond Ltd., New York, NY

TA-W-57,767; General Electric Consumer and Industrial Components, Conover, NC

TA-W-57,598; Tyco Electronics, GIC&E Division, Waterbury, CT

TA-W-57,709; AMI Doduco, Technitrol, Inc., Reidsville, NC

TA-W-57,736; Owensboro Manufacturing, LLC, Owensboro, KY

TA-W-57,743; Sulzer-Sturm Rapid Response Center, Barboursville, WV

TA-W-57,808; Nomaco, Div. of Noel, Inc., Tarboro, NC

TA-W-57,843; Sierra Pine, Medite Division, Medford, OR

TA-W-57,897; Nypro, Inc., d/b/a Nypro Carolina, Graham, NC

TA-W-57,695; Gerome Manufacturing, Newberg, OR

TA-W-57,718; Flextronics International USA, Norwood, MA

TA-W-57,720; Northwest Hardwood, Weyerhaeuser Business, Appearance Wood Prod., Little Rock, AR

TA-W-57,722; Janesville Sackner Group, Janesville Products Division, Janesville, WI

TA-W 57,771; Prince Mfg. Co. (The), Bowmanstown, PA

TA-W 57,782; McLaughlin Co. (The), MRC Industrial Group, Inc., Petoskey, MI

TA-W 57,794; Cognis Corporation, Cincinnati, OH

TA-W 57,796; TCS Manufacturing, Inc., Jamestown, NY

TA-W 57,804; Kellwood Company, Intimate Apparel Group, Summit, MS

TA-W 57,804A; Kellwood Company, Intimate Apparel Group—Fernwood, MS, Summit, MS

TA-W 57,804B; Kellwood Company, Intimate Apparel Group—Summit, MS

TA-W 57,870; International Paper Co., Printing & Converting Div., Bastrop, LA

TA-W 57,994; Johnnie Overstreet, Gen. Contractor—Jefferson Parish, Marrero, LA

TA-W 57,367; Tellabs, Repair and Return Department, Petuluma, CA

TA-W 57,687; IBM Global Services, Phoenix, AZ

TA-W 57,700, Joy Technologies, Inc., Joy Mining Machinery, Mt. Vernon, IL

TA-W 57,730; Garan Manufacturing Corp., Starkville, MS: August 15, 2005.

TA-W 57,730A; Garan Manufacturing Eupora Mississippi, Eupora, MS: August 15, 2005.

TA-W 57,740; Baron Drawn Steel Corp., Toledo, OH: August 28, 2005.

TA-W 57,753; Gas Transmission Service Company, Div. of the Transcanada Corp., Rosalia, WA

TA-W 57,753A; Gas Transmission Service Company, Div. of the Transcanada Corp., Wallula, WA

TA-W 57,790; Science Applications International, Piscataway, NJ

TA-W 57,793; GE Consumer Finance, General Electric Co., Partnership Marketing, Schaumburg, IL

TA-W 57,838; Texstyle, Inc., Manchester, KY

TA-W 57,922; Concentra Network Services, Concentra, Inc., Franklin, TN

TA-W 57,948; Amkor Technology, Chandler, AZ

TA-W 57,985; Carroll Leather, El Paso, TX

TA-W-58,019; Aradian Corporation, San Diego, CA

The Department has determined that criterion (3) of Section 246 has not been met. Competition conditions within the workers' industry are not adverse.

None

Affirmative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W 57,422; Benedict Manufacturing Company, Big Rapids, MI: June 17, 2004.

TA-W 57,591; United Wire Hanger Corporation, Wire Garment Hangar Line, Hasbrouk Heights, New Jersey: June 28, 2004

TA-W 57,654; Oriental Accent, Inc., Farmers Branch, TX: August 1, 2004.

TA-W 57,680; Joan Fabrics Corporation, Newton Finishing Plant, Newton, NC: July 17, 2005.

TA-W 57,680A; Joan Fabrics Corporation, Hickory Div., Pilot Weaving, Weaving, Corp. Marketing, Hickory, NC: : July 17, 2005.

TA-W 57,754; Delphi Corp., Automotive Holdings (Delphi Energy Chassis), Kettering, OH: August 23, 2005.

TA-W 57,774; Preco Electronics, Inc., Adecco Staffing, Boise, ID: May 21, 2005.

TA-W 57,789; Amveco Magnetics, Inc., Houston, TX: September 10, 2004.

TA-W 57,831; DSM Nutritional Products, Inc., Belvidere, NJ: August 24, 2004.

TA-W 57,862; Novacel, Inc., Newton, MA: August 17, 2004.

TA-W 57,875; Levolor Kirsch Window Fashions, Spherion, Freeport, IL: December 5, 2004.

TA-W 57,967; LXD, Inc., Cleveland, OH: September 8, 2004.

TA-W 57,976; Honeywell International, Inc., Consumer Products, Manpower, Adecco, Kelly, etc, Lynn Haven, FL: September 13, 2004.

TA-W 57,601; Manner Textile Processing, Haledon, NJ: June 29, 2004.

TA-W 57,688; O'Sullivan Industries, Inc., Ransdstad, Lamar, MO: June 11, 2005.

TA-W 57,688A; O'Sullivan Industries, Inc., O'Sullivan Industries Holdings, Inc., South Boston, VA: June 11, 2005.

TA-W 57,691; Falcon Products, Metal Chair Div., Morristown, TN: August 8, 2004.

TA-W 57,693; Ironees Company (The), Philadelphia, PA: July 25, 2004.

TA-W 57,701; Old Pro Cover Company, Holly Hill, SC: August 8, 2004.

TA-W 57,723; Carlisle Engineered Products, Inc., Advance Placement, Career Concept, Staffing Serv., Lake City, PA: August 05, 2004.

TA-W 57,738; Vander-Bend Mfg., LLC, Sunnyvale, CA: August 1, 2004.

TA-W 57,756; FiberMark, Warren Glen Location, Milford, NJ: August 16, 2004.

TA-W 57,756A; FiberMark, Hughesville Location, Milford, NJ: August 16, 2004.

TA-W 57,760; Clarion Technologies, South Haven, MI: August 11, 2004.

TA-W 57,761; Stimson Lumber Company, Bonner, MT: August 16, 2004.

TA-W 57,775; Pleasant Hill Veneer Corp., Pleasant Hill, MO: August 26, 2005

TA-W 57,788; AmbiTech, Inc., Chatsworth, CA: August 3, 2004.

TA-W 57,809; R.J. Reynolds Tobacco Company, Lucky Strikes Storage Facility, Richmond, VA: August 09, 2004.

TA-W 57,857; Delta Mills, Inc., Beattie Plant, Wallace, SC August 29, 2004.

TA-W 57,857A; Delta Mills, Inc., Delta Plant No. 2—Div. Woodside Industries, Inc., Wallace, SC August 29, 2004.

TA-W 57,857B; Delta Mills, Inc., Delta Plant No. 3—Div. Woodside Industries, Inc., Wallace, SC August 29, 2004.

TA-W 57,857C; Delta Mills, Inc., Pamplico—Div. Woodside Industries, Inc., Wallace, SC August 29, 2004.

TA-W 57,920; Phoenix Metallurgical, Inc., Hopedale, MA: September 8, 2004.

TA-W 57,467; Texas Instruments, Final Test and Production, Tucson, AZ: June 24, 2004.

TA-W 57,745A; USR Optonix, MCI Optonix Division, Express Personnel, Cedar Knolls, NJ: August 1, 2005.

TA-W 57,696; ICU Medical, Formerly Hospira, Salt Lake City, UT: August 5, 2004.

TA-W 57,746; Joan Fabrics, Mastercraft Fabrics, Spindale, NC: August 5, 2004.

TA-W 57,746A; Joan Fabrics, Mastercraft Fabrics, Spindale, NC: August 5, 2004.

TA-W 57,746B; Joan Fabrics, Mastercraft Fabrics, Spindale, NC: August 05, 2004.

TA-W 57,780; Cintas, Rockcastle Mfg., Mt. Vernon, KY: August 5, 2004.

TA-W 57,791; Accellent, Corry, PA: August 05, 2004.

TA-W 57,798; Power-One, TriNet, Carlsbad, CA: August 10, 2004.

TA-W 57,803; Viasystems, Consumer Group, Mishawaka, IN: August 18, 2004.k

TA-W 57,810; Stone Apparel, Stone International, LLC, Columbia, SC: August 19, 2004.

TA-W 57,830; Mallory AC Capacitor, LLC, Glasgow, KY: August 23, 2004.

TA-W 57,846; UBE Automotive North America, Mason, OH: August 22, 2004.

TA-W 57,853; Indiana Tube, Fort Smith Division, Fort Smith, AR: August 26, 2004.

TA-W 57,868; Northland, A Scott Fetzer Co., Watertown, NY: September 26, 2005.

TA-W 57,869; CarboMedics, Inc., Austin, TX: August 18, 2004.

TA-W 57,872; Ametek/Chatillon and Sons, Inc., Test and Calibration Instruments, Kew Gardens, NY: August 28, 2004.

TA-W 57,873; Conso International Corp., Union, SC: August 29, 2005.

TA-W 57,891; Teradyne, Inc., (TCS Assembly Operations), San Jose, CA: August 26, 2004.

TA-W 57,892; Cardinal Health, El Paso, TX: August 23, 2004.

TA-W 57,933; Solectron, USA Division, West Palm Beach, FL: September 2, 2004.

TA-W 57,955; FCI USA, Inc., CDC Americas Div., Manpower, Inc., Mt. Union, PA: September 14, 2004.

TA-W 57,959; Hewlett-Packard, Inkjet Supplies Business, Boise, ID: September 15, 2004.

TA-W 57,965; Volex, Inc., Accuforce, Manpower and Foothills, Conover, NC: September 26, 2005.

TA-W 57,691A; Falcon Products, Wood Frame Upholstered Furniture Div., Morristown, TN: August 8, 2004.

TA-W 57,770; Elementis Pigments Corporation, East St. Louis, IL: August 11, 2004.

TA-W 57,806; Harper Pet Products, Inc., Harper Leather Goods, Inc. Bedford Park, IL: August 17, 2004.

TA-W 57,820; Paper Converting Machine Company, Green Bay, WI: September 12, 2005.

TA-W 57,966; Rels Acquisition Company, Inc., (DBA) Rels MFG., Inc. (Parent Co. IBCC Group, Inc.), Rockford, MN: September 15, 2004.

TA-W 57,745; USR Optonix, Phosphor Division, Hackettstown, NJ: August 15, 2004.

TA-W 57,759; Unifi, Inc., Central Distribution Center, Mayodan, NC: August 16, 2004.

TA-W 57,776; Brockway Pressed Metals, Inc., Brockway, PA: August 17, 2004.

I hereby certify that the aforementioned determinations were issued during the month of September 2005. Copies of These determinations are available for inspection in Room C-5311, U.S. Department of Labor, 200 Constitution Avenue, NW., Washington, DC 20210 during normal business hours or will be mailed to persons who write to the above address.

Dated: October 19, 2005.
Douglas F. Small,
Acting Director, Division of Trade Adjustment Assistance.

[FR Doc. E5-6010 Filed 10-28-05; 8:45 am]

BILLING CODE 4510-30-P